SMALL BUSINESS ADMINISTRATION

[Declaration of Disaster #3372]

Commonwealth of Pennsylvania (And Contiguous Counties in the State of New Jersey)

Philadelphia County and the contiguous counties of Bucks, Montgomery and Delaware in the Commonwealth of Pennsylvania; and Burlington, Camden and Gloucester counties in the State of New Jersey constitute a disaster area due to damages caused by a five alarm fire that occurred on October 22, 2001. Applications for loans for physical damage as a result of this disaster may be filed until the close of business on January 2, 2002 and for economic injury until the close of business on August 2, 2002 at the address listed below or other locally announced locations: U.S. Small Business Administration, Disaster Area 1 Office, 360 Rainbow Blvd., South 3rd Floor, Niagara Falls, NY 14303.

The interest rates are:

| Percent
For Physical Damage:
Homeowners with credit available elsewhere | 6.500
Homeowners without credit available elsewhere | 3.250
Businesses with credit available elsewhere | 8.000
Businesses and non-profit organizations without credit available elsewhere | 4.000
Others (including non-profit organizations) with credit available elsewhere | 6.375
For Economic Injury:
Businesses and small agricultural cooperatives without credit available elsewhere | 4.000

The number assigned to this disaster for physical damage is 337205 for Pennsylvania and 337305 for New Jersey. For economic injury, the numbers are 9M9800 for Pennsylvania and 9M9900 for New Jersey.

(Catalog of Federal Domestic Assistance Program Nos. 59002 and 59008)

Dated: November 2, 2001.
Hector V. Barreto,
Administrator.

[FR Doc. 01-28372 Filed 11-9-01; 8:45 am]

BILLING CODE 8025-01-P